DEPARTMENT OF COMMERCE

International Trade Administration

[C-475-821]

Stainless Steel Wire Rod From Italy: Notice of Final Results of Countervailing Duty Administrative Review

AGENCY: Import Administration, International Trade Administration, Department of Commerce.

ACTION: Stainless Steel Wire Rod from Italy: notice of final results of countervailing duty administrative review.

SUMMARY: On June 7, 2002, the Department of Commerce (the Department) published in the Federal Register its preliminary results of administrative review of the countervailing duty order on stainless steel wire rod from Italy for the period January 1, 2000, through December 31, 2000.

Upon review of the comments received, the Final Results remain unchanged from the Preliminary Results. For information on the subsidy rate for the reviewed company, see the “Final Results of Review” section of this notice.

EFFECTIVE DATE: October 15, 2002.

FOR FURTHER INFORMATION CONTACT: Carrie Farley at (202) 482-0395 or Eric B. Greynolds at (202) 482-6071, Office of AD/CVD Enforcement VI, Group II, Import Administration, International Trade Administration, U.S. Department of Commerce, Room 4012, 14th Street and Constitution Avenue, NW., Washington, DC 20230.

SUPPLEMENTARY INFORMATION:

The Applicable Statute and Regulations

Unless otherwise indicated, all citations to the statute are references to the provisions effective January 1, 1995, the effective date of the amendments made to the Tariff Act of 1930 (the Act) by the Uruguay Round Agreements Act (URAA). In addition, unless otherwise indicated, all citations to the Department's regulations are to the regulations codified at 19 CFR part 351 (2001).

Background

On June 7, 2002, the Department published the preliminary results of the administrative review of the countervailing duty order on stainless steel wire rod from Italy. See Stainless Steel Wire Rod from Italy, 67 FR 39357 (June 7, 2002) (Preliminary Results). This review covers one manufacturer/exporter, Acciaierie Valbruna S.p.A. This review covers the period January 1, 2000, through December 31, 2000 and 17 programs.

Scope of Review

For purposes of this administrative review, certain stainless steel wire rod (SSWR or subject merchandise) comprises products that are hot-rolled or hot-rolled annealed and/or pickled and/or descaled rounds, squares, octagons, hexagons or other shapes, in coils, that may also be coated with a lubricant containing copper, lime or oxalate. SSWR is made of alloy steels containing, by weight, 1.2 percent or less of carbon and 10.5 percent or more of chromium, with or without other elements. These products are manufactured only by hot-rolling or hot-rolling, annealing, and/or pickling and/or descaling, and are normally sold in coiled form, and are of solid cross-section. The majority of SSWR sold in the United States is round in cross-sectional shape, annealed and pickled, and later cold-finished into stainless steel wire or small-diameter bar. The most common size for such products is 5.5 millimeters or 0.217 inches in diameter, which represents the smallest size that normally is produced on a rolling mill and is the size that most wire drawing machines are set up to draw. The range of SSWR sizes normally sold in the United States is between 0.20 inches and 1.312 inches in diameter. Two stainless steel grades SF20T and K-M35FL are excluded from the scope of the investigation. The percentages of chemical makeup for the excluded grades are as follows:

SF20T:
Carbon | 0.05 max
Manganese | 2.00 max
Phosphorous | 0.05 max
Sulfur | 0.15 max
Silicon | 1.00 max
Chromium | 19.00/21.00
Molybdenum | 1.50/2.50
Lead | added (0.10/0.30)
Tellurium | added (0.03 min)
K-M35FL:
Carbon | 0.015 max
Manganese | 0.40 max
Phosphorous | 0.04 max
Sulfur | 0.03 max
Silicon | 0.70/1.00
Chromium | 12.50/14.00
Nickel | 0.30 max
Lead | added (0.10/0.30)
Aluminum | 0.20/0.35

The products covered by this administrative review are currently classifiable under subheadings 7221.00.0005, 7221.00.0015, 7221.00.0030, 7221.00.0045, and 7221.00.0075 of the Harmonized Tariff Schedule of the United States (HTSUS). Although the HTSUS subheadings are provided for convenience and Customs purposes, the written description of the scope of this review is dispositive.

Analysis of Comments Received

All issues raised in the case briefs by parties to this administrative review are addressed in the Issues and Decision Memorandum (Decision Memorandum), dated October 7, 2002, which is hereby adopted by this notice. A list of issues which parties have raised and to which we have responded, all of which are in the Decision Memorandum, is attached to this notice as Appendix I. Parties can find a complete discussion of all issues raised in this review and the corresponding recommendations in this public memorandum which is on file in room B-099 of the Main Commerce Building. In addition, a complete version of the Decision Memorandum can be accessed directly on the World Wide Web at http://ia.ita.doc.gov, under the heading “Federal Register Notices.” The paper copy and electronic version of the Decision Memorandum are identical in content.

Final Results of Review

In accordance with 19 CFR 351.221(b)(5), we calculated an individual subsidy rate for each producer/exporter subject to this administrative review. We determine the total estimated net countervailable subsidy rate to be:

Producer/exporter | Net subsidy rate
Acciaierie Valbruna S.p.A | 0.27 percent ad valorem

As provided for in the Statement of Administrative Action (SAA) accompanying the Uruguay Round Agreements Act, H.R. Doc. 103-316, vol. 1 (1994) at 939 and 19 CFR 351.106(c)(1), any rate less than 0.5 percent ad valorem in an administrative review is de minimis. Normally, we would instruct the U.S. Customs Service (Customs) to liquidate without regard to countervailing duties, shipments of the subject merchandise that are covered by this review. However, because liquidation of entries of subject merchandise manufactured or exported by Acciaierie Valbruna S.r.l and/or Acciaierie Bolzano S.r.l. is barred by the terms of an injunction, we will not issue liquidation instructions at this time. However, we will instruct Customs to set the cash deposit rate at zero for Acciaierie Valbruna S.p.A.¹ See SAA at 939.

¹ We note that Acciaierie Valbruna S.r.l and Acciaierie Bolzano S.r.l. merged, effective January 1, 2000, and that the name of the merged companies was changed to Acciaierie Valbruna S.p.A. Thus, for liquidation purposes, we will refer to the companies Acciaierie Valbruna S.r.l and Acciaierie Bolzano S.r.l. Because it is possible that subject merchandise also entered the United States during the POR under the new name of the merged companies, we will also use the name Acciaierie Valbruna S.p.A. for liquidation purposes. For cash deposit purposes, we refer to Acciaierie Valbruna S.p.A.

Because the URAA replaced the general rule in favor of a country-wide rate with a general rule in favor of individual rates for investigated and reviewed companies, the procedures for establishing countervailing duty rates, including those for non-reviewed companies, are now essentially the same as those in antidumping cases, except as provided for in section 777A(e)(2)(B) of the Act. The requested review will normally cover only those companies specifically named. See 19 CFR 351.213(b). Pursuant to 19 CFR 351.212(c), for all companies for which a review was not requested, duties must be assessed at the cash deposit rate, and cash deposits must continue to be collected, at the rate previously ordered. As such, the countervailing duty cash deposit rate applicable to a company can no longer change, except pursuant to a request for a review of that company. See Federal-Mogul Corporation and The Torrington Company v. United States, 822 F. Supp. 782 (CIT 1993) and Floral Trade Council v. United States, 822 F. Supp. 766 (CIT 1993) (interpreting 19 CFR 353.22(e), the antidumping regulation on automatic assessment, which is identical to 19 CFR 355.22(g), the predecessor to 19 CFR 351.222(c)). Therefore, the cash deposit rates for all companies except those covered by this review will be unchanged by the results of this review.

We will instruct Customs to continue to collect cash deposits for non-reviewed companies at the most recent company-specific or country-wide rate applicable to the company. Accordingly, the cash deposit rates that will be applied to non-reviewed companies covered by this order are those established in the most recently completed administrative proceeding conducted under the URAA. See Final Affirmative Countervailing Duty Determination: Certain Stainless Steel Wire Rod from Italy, 63 FR 40474 at 40503. These rates shall apply to all non-reviewed companies until a review of a company assigned these rates is requested. In addition, for the period January 1, 2000 through December 31, 2000, the assessment rates applicable to all non-reviewed companies covered by this order are the cash deposit rates in effect at the time of entry.

Assessment Rates

We will not liquidate entries covered by this review until the injunction covering this order is lifted.

This notice serves as a reminder to parties subject to administrative protective order (APO) of their responsibility concerning the disposition of proprietary information disclosed under APO in accordance with 19 CFR 351.305. Timely written notification of return/destruction of APO materials or conversion to judicial protective order is hereby requested. Failure to comply with the regulations and the terms of an APO is a sanctionable violation.

This administrative review and notice are in accordance with sections 751(a)(1)and 777(i)(1) of the Act.

Dated: October 7, 2002.
Faryar Shirzad,
Assistant Secretary for Import Administration.

Appendix I—Issues Discussed in the Decision Memorandum

Methodology and Background Information

I. Background Information

A. Corporate History

B. Changes in Ownership

II. Subsidies Valuation Information

A. Allocation Period

B. Benchmark for Loans and Discount Rates

III. Programs Determined to Be Countervailable

A. Government of Italy Law 451/94 Early Retirement Benefits

B. Province of Bolzano Law 25/81, Articles 13 through 15

C. European Social Fund

D. Lease of Bolzano Industrial Site to Valbruna

E. Environmental and Research and Development Assistance to Bolzano Under Law 25/81

IV. Programs Determined To Be Not Used

A. Capacity Reduction Payments under Articles 3 and 4 of Law 193/1984

B. Law 796/76 Exchange Rate Guarantees

C. Article 33 of Law 227/77, Export Credit Financing Under Law 227/77, and Decree Law 143/98

D. Grants under Laws 46/82 and 706/85

E. Law 181/89 and Law 120/89

F. Law 488/922, Legislative Decree 96/93 and Circolare 38522

G. Law 341/95 and Circolare 50175/95

H. Law 675/77

1. Interest Grants on Bank Loans

2. Mortgage Loans

3. Interest Contribution on IRI Loans

4. Personnel Retraining Aid

I. Law 394/81 Export Marketing Loans

J. Law 481/94 (and Precursors) Grants for Reduced Production

K. Law 489/94

L. Law 10/91

V. Total Ad Valorem Rate

VI. Analysis of Comments

Comment 1: Selection of Discount Rate

Comment 2: Government of Italy Law 451/94 Early Retirement Benefits

Comment 3: Attribution of Law 25/81 Grants to Valbruna

Comment 4: Bolzano Industrial Site Lease and Extraordinary Maintenance

Comment 5: Final Results Should Identify The Producer/Exporter as Acciaierie Valbruna S.p.A.

[FR Doc. 02-26178 Filed 10-11-02; 8:45 am]

BILLING CODE 3510-DS-P